DEPARTMENT OF COMMERCE

International Trade Administration

[C-475-841]

Forged Steel Fluid End Blocks From Italy: Final Results of Countervailing Duty Administrative Review; 2020-2021

AGENCY: Enforcement and Compliance, International Trade Administration, Department of Commerce.

SUMMARY: The U.S. Department of Commerce (Commerce) determines that countervailable subsidies were provided to Lucchini Mame Forge S.p.A (LMA), a producer and exporter of forged steel fluid end blocks (fluid end blocks) from Italy during the period of review (POR), May 26, 2020, through December 31, 2021.

DATES: Applicable August 9, 2023.

FOR FURTHER INFORMATION CONTACT: Nicholas Czajkowski, AD/CVD Operations, Enforcement and Compliance, International Trade Administration, U.S. Department of Commerce, 1401 Constitution Avenue NW, Washington, DC 20230; telephone: (202) 482-1395.

Background

On February 7, 2023, Commerce published the preliminary results of this administrative review in the Federal Register.¹ This review covers one mandatory respondent, LMA. From May 8 through May 16, 2023, we conducted verification of LMA and the Government of Italy's (GOI) questionnaire responses. On June 9, 2023, we released the verification reports,² and, on June 12, 2023, we invited parties to comment on the Preliminary Results.³ On June 21, 2023, LMA and the GOI submitted timely-filed case briefs.⁴ On June 29, 2023, LMA and the petitioners ⁵ submitted timely-filed rebuttal briefs.⁶ On June 5, 2023, Commerce extended the deadline for issuing the final results until August 3, 2023.⁷ For a complete description of the events that occurred since the Preliminary Results, see the Issues and Decision Memorandum.⁸

¹ See Forged Steel Fluid End Blocks from Italy: Preliminary Results of Countervailing Duty Administrative Review, and Intent To Rescind Administrative Review in Part; 2020-2021, 88 FR 7944 (February 7, 2022) (Preliminary Results), and accompanying Preliminary Decision Memorandum (PDM).

² See Memoranda, “Verification of the Questionnaire Responses of Lucchini Mame Forge S.p.A.,” dated June 9, 2023, and “Verification of the Questionnaire Responses of the Government of Italy,” dated June 9, 2023.

³ See Commerce's Letter, “Briefing Schedule,” dated June 12, 2023.

⁴ See LMA's Letter, “Lucchini's Case Brief,” dated June 21, 2023; see also GOI's Letter, “Case Brief for Government of Italy,” dated June 21, 2023.

⁵ The petitioners are Ellwood City Forge Company, Ellwood Quality Steels Company, Ellwood National Steel Company, and A. Finkl & Sons.

⁶ See Petitioners' Letter, “FEB Fair Trade Coalition's Administrative Rebuttal Brief,” dated June 28, 2023.

⁷ See Memorandum, “Extension of Deadline for Final Results of the Countervailing Duty Administrative Review 2020,” dated June 5, 2023.

⁸ See Memorandum, “Issues and Decision Memorandum for the Final Results of the Countervailing Duty Administrative Review of Forged Steel Fluid End Blocks from Italy; 2020-2021,” concurrently with, and hereby adopted by, this notice (Issues and Decision Memorandum).

Scope of the Order ⁹

⁹ See Forged Steel Fluid End Blocks from the People's Republic of China, the Federal Republic of Germany, India, and Italy: Countervailing Duty Orders, and Amended Final Affirmative Countervailing Duty Determination for the People's Republic of China, 86 FR 7535 (January 29, 2021) (Order).

The products covered by the Order are fluid end blocks. A full description of the scope of the Order is contained in the Issues and Decision Memorandum.

Analysis of Comments Received

All issues raised by the interested parties in their case and rebuttal briefs are addressed in the Issues and Decision Memorandum. A list of these issues is provided in the appendix to this notice. The Issues and Decision Memorandum is a public document and is on file electronically via Enforcement and Compliance's Antidumping and CVD Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties and issues originating from verification, we revised the calculation of the net countervailable subsidy rates for LMA. For a discussion of the issues, see the Issues and Decision Memorandum.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.¹⁰ For a full description of the methodology underlying all of Commerce's conclusions, including our reliance, in part, on facts otherwise available, including adverse facts available (AFA), pursuant to sections 776(a) and (b) of the Act, see the Issues and Decision Memorandum.

¹⁰ See sections 771(5)(B) and (D) of the Act regarding financial contribution; section 771(5)(E) of the Act regarding benefit; and section 771(5A) of the Act regarding specificity.

Final Results of the Administrative Review

We determine the net countervailable subsidy rates for the period May 26, 2020, through December 31, 2021, to be as follows:

Producer/Exporter | Subsidy rate (percent ad valorem) 2020 | Subsidy rate percent ad valorem) 2021
Lucchini Mame Forge S.p.A ¹¹ | 11.40 percent | 11.49 percent.
¹¹ Commerce has found the following companies to be cross-owned with LMA: Lucchini RS S.p.A., Lucchini Industries S.r.l., Bicomet S.p.A., and Setrans S.r.l.

Disclosure

We intend to disclose calculations and analysis performed for these final results of review within five days after the date of publication of this notice in the Federal Register in accordance with 19 CFR 351.224(b).

Assessment Rates

In accordance with section 751(a)(2)(C) of the Act and 19 CFR 351.212(b)(2), Commerce shall determine, and U.S. Customs and Border Protection (CBP) shall assess, countervailing duties at the applicable ad valorem rates on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, we also intend to instruct CBP to collect cash deposits of estimated countervailing duties in the amounts shown above for the above-listed companies with regard to shipments of subject merchandise entered, or withdrawn from warehouse, for consumption on or after the date of publication of these final results of review. For all non-reviewed firms, CBP will continue to collect cash deposits of estimated countervailing duties at the all-others rate or the most recent company-specific rate applicable to the company, as appropriate. These cash deposit requirements, effective upon publication of these final results, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act and 19 CFR 351.221(b)(5).

Dated: August 3, 2023.
Abdelali Elouaradia,
Deputy Assistant Secretary for Enforcement and Compliance.

Appendix

List of Topics Discussed in the Issues and Decision Memorandum

I. Summary

II. Background

III. Scope of the Order

IV. Subsidies Valuation

V. Use of Facts Otherwise Available and Adverse Inferences

VI. Analysis of Programs

VII. Analysis of Comments

Comment 1: Whether Commerce Should Apply Adverse Facts Available to the Duty Refunds Pursuant to Law No. 639/1964 Program

Comment 2: Whether Commerce Should Find Certain Programs to be De Facto Specific

VIII. Recommendation

[FR Doc. 2023-17087 Filed 8-8-23; 8:45 am]

BILLING CODE 3510-DS-P